DEPARTMENT OF TRANSPORTATION

Federal Railroad Administration

[Docket Number FRA-2003-15754]

Notice of Application for Approval of Discontinuance or Modification of a Railroad Signal System

In accordance with Part 211 of Title 49 of the Code of Federal Regulations, this document provides the public notice that by a document dated December 16, 2011, the Reading, Blue Mountain and Northern Railroad (RBMN) has petitioned the Federal Railroad Administration (FRA) seeking approval for the discontinuance or modification of a signal system. FRA has reopened and assigned the application Docket Number FRA-2003-15754.

Applicant: Reading, Blue Mountain and Northern Railroad, Mr. Jonathan Barket, AVP, Communications & Signals, 1 Railroad Boulevard, Port Clinton, Pennsylvania 19549.

RBMN seeks approval of the proposed discontinuance of the automatic block signal (ABS) system on Track 1 on the main line and Lehighton Branch, Lehigh Division, between Milepost (MP) 119.3, Lehighton, and MP 130.6, Independence, PA.

The reason given for the proposed change is that the signal system has been out of service since being damaged by weather in December 2003. RBMN applied, in Docket Number FRA-2003-15754, for an extension to the time allowed to repair the signal system after the damage. The application was denied due to not being filed correctly. At the time, there was another railroad operating in the application area and the application was not submitted as a joint application. RBMN did not resubmit a joint application as requested in FRA's decision letter denying the application. In the ensuing years, operations have changed, with RBMN being the sole operator on the trackage involved. RBMN records indicate that the ABS has been out of service since before the August 1996 acquisition of this section of railroad. Since the acquisition, RBMN states they have operated this section by means of Northeast Operating Rules Advisory Committee (NORAC) Form D permits. FRA records continue to show the area being operated under NORAC Rule 251. Therefore RBMN requests to discontinue the ABS.

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: (202) 493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 5, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on January 12, 2012.
Ron Hynes,
Acting Deputy Associate Administrator for Regulatory and Legislative Operations.

[FR Doc. 2012-1003 Filed 1-18-12; 8:45 am]

BILLING CODE 4910-06-P